DEPARTMENT OF AGRICULTURE

Animal and Plant Health Inspection Service

[Docket No. APHIS-2015-0058]

Highly Pathogenic Avian Influenza; Availability of an Environmental Assessment and Finding of No Significant Impact

AGENCY: Animal and Plant Health Inspection Service, USDA.

ACTION: Notice of availability and request for comments.

SUMMARY: We are advising the public that an environmental assessment has been prepared by the Animal and Plant Health Inspection Service relative to a national approach for the control of highly pathogenic avian influenza outbreaks within the United States. Based on our environmental assessment, we have concluded that such an approach will not have a significant impact on the quality of the human environment. We are making this environmental assessment and finding of no significant impact available to the public for review and comment.

DATES: We will consider all comments that we receive on or before October 5, 2015.

ADDRESSES: You may submit comments by either of the following methods:

• Federal eRulemaking Portal: Go to http://www.regulations.gov/#!docketDetail;D=APHIS-2015-0058.

• Postal Mail/Commercial Delivery: Send your comment to Docket No. APHIS-2015-0058, Regulatory Analysis and Development, PPD, APHIS, Station 3A-03.8, 4700 River Road Unit 118, Riverdale, MD 20737-1238.

The environmental assessment, finding of no significant impact, and any comments we receive may be viewed at http://www.regulations.gov/#!docketDetail;D=APHIS-2015-0058 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Lori Miller, PE, Senior Staff Officer and Environmental Engineer, APHIS Veterinary Services, 4700 River Road Unit 41, Riverdale, MD 20737; (301) 851-3512.

SUPPLEMENTARY INFORMATION: Highly pathogenic avian influenza (HPAI) is a significant and often fatal zoonotic disease of poultry. In December 2014, two H5 viruses of HPAI were discovered in the United States. These viruses were subsequently detected in both migratory waterfowl and domestic poultry, and significantly affected domestic poultry production within the United States. Two poultry production sectors, commercial meat turkeys and laying chickens, were heavily impacted by the disease, resulting in the loss or destruction of over 48 million birds between December 2014 and June 2015.

While disease eradication efforts, northern migration of wild waterfowl, and the natural disinfecting effect of summer heat have currently halted the spread of the disease within the United States, the migration southward of potentially infected wild waterfowl during the autumn could precipitate a new round of outbreaks.

To address this potential new round of outbreaks, the Animal and Plant Health Inspection Service (APHIS) has prepared an environmental assessment, titled “High Pathogenicity Avian Influenza Control in Commercial Poultry Operations—A National Approach,” relative to a national approach to controlling outbreaks of HPAI within the United States. The environmental assessment suggests an approach in which APHIS uses its centralized management of carcass disposal activities to ensure consistency throughout the United States with regard to control efforts in response to HPAI outbreaks. Under this approach, APHIS would provide information and other support to State and local authorities to help them determine which depopulation, disposal, and cleaning and disinfection methods are most appropriate for the situation. Based on the environmental assessment, APHIS has decided to implement this approach, and has concluded that the approach will not have a significant impact on the quality of the human environment.

We are making both this environmental assessment and finding of no significant impact available to the public for review and comment. We will consider all comments that we receive on or before the date listed under the heading DATES at the beginning of this notice. If comments suggest issues that were not previously considered, APHIS may issue a supplement to the environmental assessment and finding of no significant impact.

The environmental assessment and finding of no significant impact may be viewed on the Regulations.gov Web site or in our reading room (see ADDRESSES above for a link to Regulations.gov and information on the location and hours of the reading room). You may request paper copies of the environmental assessment or finding of no significant impact by calling or writing to the person listed under FOR FURTHER INFORMATION CONTACT. Please refer to the title of the documents when requesting copies.

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 31st day of August 2015.
Kevin Shea,
Administrator, Animal and Plant Health Inspection Service.

[FR Doc. 2015-21994 Filed 9-3-15; 8:45 am]

BILLING CODE 3410-34-P